DEPARTMENT OF THE INTERIOR

Fish and Wildlife Service

[FWS-R1-R-2011-N060; 1265-0000-10137-S3]

Palmyra Atoll National Wildlife Refuge, U.S. Pacific Island Territory; Nonnative Rat Eradication Project, Final Environmental Impact Statement

AGENCY: Fish and Wildlife Service, Interior.

ACTION: Notice of availability.

SUMMARY: We, the U.S. Fish and Wildlife Service (Service), announce the availability of the Palmyra Atoll National Wildlife Refuge (Refuge) nonnative rat eradication project final environmental impact statement (FEIS). In the FEIS we describe a range of alternatives for eliminating nonnative rats from Palmyra Atoll (Atoll). We are publishing this notice to inform the public of the proposed action and to announce the availability of the FEIS.

DATES: A Record of Decision will be signed no sooner than 30 days after the publication of the Environmental Protection Agency notice announcing the same FEIS.

ADDRESSES: The FEIS is available on our Web site: http://www.fws.gov/palmyraatoll/rainforestrestoration.html. A limited number of CD-ROM and printed copies are also available. You may request a copy by any of the following methods.

E-mail: pacific_reefs@fws.gov. Include “Palmyra rat project” in the subject line.

Fax: Attn: Susan White, 808-792-9586.

U.S. Mail: Pacific Reefs National Wildlife Refuge Complex, 300 Ala Moana Blvd., Room 5-231, Honolulu, HI 96850.

FOR FURTHER INFORMATION CONTACT: Susan White, (808) 792-9553.

SUPPLEMENTARY INFORMATION:

Introduction

With this notice we continue the public involvement process in accordance with the National Environmental Policy Act (NEPA) (42 U.S.C. 4321 et seq.), as amended, and implementing regulations. We prepared the FEIS in accordance with NEPA and the National Wildlife Refuge System Administration Act of 1966 as amended by the National Wildlife Refuge System Improvement Act of 1997 (16 U.S.C. 668dd-668ee) (Refuge Administration Act); and Service regulations and policies. The Refuge Administration Act requires each unit of the National Wildlife Refuge System to be managed to achieve its establishing purposes.

The Atoll is located in the Pacific Ocean, approximately halfway between Hawai`i and American Samoa. It consists of a circular string of 50 islets nestled among several lagoons and encircled by 15,000 acres of shallow reefs and submerged reefs. Nonnative invasive rats are damaging the Atoll's environment. Through our FEIS we are proposing to restore and protect native species and habitats by eradicating rats. In the FEIS we recommend applying a lethal dose of rodenticide to every rat on the Atoll, in a manner that minimizes harm to the ecosystem and upholds a high probability of success.

Public Involvement

We conducted public scoping for the draft environmental impact statement (DEIS) from January 14 to March 1, 2010. During that time we requested public comments through the Federal Register (75 FR 2158; January 14, 2010) and on our Web site (see ADDRESSES). The comments we received covered topics such as threats to nontarget species, our proposed selection of the rodenticide brodifacoum over diphacinone, and effects to other Refuge operations. We considered and evaluated these comments, and incorporated them into the various alternatives identified in the DEIS.

We distributed copies of the DEIS, posted it on our Web site (see ADDRESSES), and held a public comment period from February 25 to April 11, 2011 (76 FR 10621; February 25, 2011). During the public comment period, we received comments regarding strong support for and strong opposition to rat eradication, threats to nontarget species, our proposed selection of the rodenticide brodifacoum over diphacinone, effects to other Refuge operations, and implementation strategies. The comments we received and our responses are presented in the FEIS.

FEIS Alternatives

We present four alternatives in the FEIS. Alternative A is our no action alternative, and Alternatives B, C, and D, are our action alternatives. In all of the action alternatives, we propose using rodenticide bait pellets containing the anticoagulant brodifacoum (0.0025 percent active ingredient) to eradicate rats from the Atoll. In Alternative B, we propose broadcasting brodifacoum aerially; in Alternative C, our preferred alternative, we propose broadcasting brodifacoum aerially and mitigating risks to vulnerable shorebirds; and in Alternative D, we propose using brodifacoum bait stations and canopy baiting. In order to be retained for consideration, our action alternatives had to: (1) Have a high likelihood of success; (2) have an acceptably low probability for adverse effects on populations of nontarget species and the environment; and (3) be allowed under regulations governing the Refuge. The potential impacts of each alternative were assessed, and, where appropriate, mitigation measures were applied to avoid impacts or reduce their magnitude and intensity.

Under Alternative A, no new actions to eradicate rats would be implemented and they would continue to harm the Atoll's environment.

Under Alternatives B and C we would use a helicopter with a specialized bucket to broadcast brodifacoum bait pellets aerially. The bucket would deliver the bait at the appropriate rate and in a directional manner to all potential rat territories within a short operational period. Special measures to prevent the bait from entering the water would include hand broadcasting on narrow strands of land and tiny islands, and installing bait packets in canopy trees overhanging the water. In addition, under Alternative C, we would manage shorebirds proactively to minimize their exposure to the rodenticide.

Under Alternative D, we would place bait stations containing brodifacoum bait pellets throughout the entire Atoll and maintain them until all rats are removed (or 2 years). Bait stations are box shaped enclosures with small entryways designed to attract rodents but be difficult for other species such as birds and land crabs to navigate. Bait stations reduce the amount of bait that is introduced to the ecosystem and the risk of exposing nontarget species to rodenticide. Bait stations designed for the Atoll would exclude shorebirds and land crabs, and allow easy access for rats.

The FEIS is intended to accomplish the following: (1) Inform the public of the proposed action and alternatives; (2) Address public comments received during the public comment periods; (3) Disclose the direct, indirect, and cumulative environmental effects of the proposed action and each of the alternatives; and (4) Indicate any irreversible commitment of resources that would result from project implementation. A Record of Decision stating which alternative the Service has selected for implementation will not be issued earlier than 30 days after the Environmental Protection Agency notice.

Dated: April 8, 2011.
Robyn Thorson,
Regional Director, Region 1, Portland, Oregon.

[FR Doc. 2011-10135 Filed 4-28-11; 8:45 am]

BILLING CODE 4310-55-P